DEPARTMENT OF TRANSPORTATION

National Highway Traffic Safety Administration

49 CFR Part 571

[Docket No. NHTSA-2024-0058]

RIN 2127-AM64

Federal Motor Vehicle Safety Standards; FMVSS No. 213, “Child Restraint Systems,” FMVSS No. 213a, “Child Restraint Systems—Side Impact Protection,” and FMVSS No. 213b, “Child Restraint Systems”—Response to Petitions for Reconsideration; Correction

AGENCY: National Highway Traffic Safety Administration (NHTSA), Department of Transportation (DOT).

ACTION: Final rule; response to petitions for reconsideration; correction.

SUMMARY: On October 9, 2024, NHTSA issued a final rule responding to petitions for reconsideration of a June 2022 final rule establishing Federal Motor Vehicle Safety Standard (FMVSS) No. 213a and the December 2023 final rule establishing FMVSS No. 213b. That rule contained an amendatory instruction to amend a section of text that did not exist. This document provides the correct amendatory instruction. It does not change the regulatory text set forth in the October 9, 2024 final rule.

DATES: Effective on December 4, 2024.

FOR FURTHER INFORMATION CONTACT: For technical issues, you may call Cristina Echemendia, Office of Crashworthiness Standards (telephone: (202) 366-6345). For legal issues, you may call Matthew Filpi, Office of Chief Counsel (telephone: (202) 366-2992). Address: National Highway Traffic Safety Administration, U.S. Department of Transportation, 1200 New Jersey Avenue SE, West Building, Washington, DC 20590.

SUPPLEMENTARY INFORMATION: This document corrects a drafting error in the amendatory instructions of an October 9, 2024 final rule (89 FR 81836) responding to petitions for reconsideration of a June 30, 2022 final rule (87 FR 39234) establishing FMVSS No. 213a and a December 5, 2023 final rule (88 FR 84514) establishing FMVSS No. 213b. Amendatory instruction 2.f in that final rule directed that, among other sections, section “S5.8.2.1 introductory text” of FMVSS No. 213 be revised. However, S5.8.2.1 has no introductory text—only a title. As set forth in the revised regulatory text, NHTSA intended to amend the introductory text of S5.8.2.1(a). Because of this drafting error, the Code of Federal Regulations could not be updated with the revised regulatory text. This document sets forth the same regulatory text set forth in the October 9, 2024 final rule with the proper amendatory instruction so that the revised regulatory text published on October 9, 2024 can be incorporated into the Code of Federal Regulations. Good cause exists for this change to be effective immediately because the regulatory text has not been altered from what was published on October 9, 2024.

List of Subjects in 49 CFR Part 571

Imports, Incorporation by Reference, Motor vehicle safety, Motor vehicles, and Tires.

In consideration of the foregoing, NHTSA corrects 49 CFR part 571 by making the following correcting amendment.

PART 571—FEDERAL MOTOR VEHICLE SAFETY STANDARDS

1. The authority citation for part 571 continues to read as follows:

Authority: 49 U.S.C. 322, 30111, 30115, 30117 and 30166; delegation of authority at 49 CFR 1.95.

2. Section 571.213 is amended by revising the introductory text to paragraph S5.8.2.1(a) to read as follows:

§ 571.213 Child restraint systems; Applicable unless a vehicle or child restraint system is certified to § 571.213b.

* * * * *

S5.8.2.1 * * *

(a) Each electronic registration form provided for child restraint systems manufactured on or after June 30, 2025, shall:

* * * * *

Issued under authority delegated in 49 CFR 1.95 and 501.8.

Raymond R. Posten,
Associate Administrator, Rulemaking.

[FR Doc. 2024-28165 Filed 12-3-24; 8:45 am]

BILLING CODE P